DEPARTMENT OF ENERGY

Federal Energy Regulatory Commission

[Docket No. ES01-7-000, et al.]

NorthWestern Corporation, et al. Electric Rate and Corporate Regulation Filings

November 1, 2000

Take notice that the following filings have been made with the Commission:

1. NorthWestern Corporation

[Docket No. ES01-7-000]

Take notice that on October 25, 2000, NorthWestern Corporation submitted an application pursuant to section 204 of the Federal Power Act seeking authorization to issue short-term debt with maturities of one year or less, including commercial paper, in an amount not to exceed $500 million at any one time.

NorthWestern Corporation also requests a waiver of the Commission's competitive bidding and negotiated placement requirements at 18 CFR 34.2.

Comment date: November 15, 2000, in accordance with Standard Paragraph E at the end of this notice.

2. Dominion Resources, Inc. and Consolidated Natural Gas Company

[Docket Nos. EC99-81-004 and MG00-6-004]

Take notice that on October 27, 2000, Dominion Resources, Inc. and Consolidated Natural Gas Company filed a response to an October 17, 2000, Commission data request that was issued by Commission staff under delegated authority.

Comment date: November 17, 2000, in accordance with Standard Paragraph E at the end of this notice.

3. Lee Power Partners, L.L.C.

[Docket No. EG01-12-000]

Take notice that on October 27, 2000, Lee Power Partners, L.L.C. (Applicant) filed with the Federal Energy Regulatory Commission an Application for Determination of Exempt Wholesale Generator Status pursuant to Part 365 of the Commission's Regulations and Section 32 of the Public Utility Holding Company Act of 1935, as amended.

Applicant is a Delaware limited liability company and is owned by an indirect subsidiary of GPU, Inc. and an indirect subsidiary of El Paso Energy Corporation. Applicant is developing a combined cycle gas-fueled generating plant with a nominal 715 MW net capacity in Lee County, Mississippi, near the city of Saltillo (the Facility) and will make sales of electric energy and capacity at wholesale from that Facility. Applicant's business offices are located at 1100 Louisiana Street, Houston, TX 77002.

Copies of the application have been served upon the Mississippi Public Service Commission, the New Jersey Board of Public Utilities, the Pennsylvania Public Utility Commission, and the Securities and Exchange Commission.

Comment date: November 22, 2000, in accordance with Standard Paragraph E at the end of this notice. The Commission will limit its consideration of comments to those that concern the adequacy or accuracy of the application.

4. MEP Flora Power, L.L.C.

[Docket No. EG01-13-000]

Take notice that on October 30, 2000, MEP Flora Power, L.L.C., an indirect wholly owned subsidiary of UtiliCorp United Inc., tendered for filing an Application for Determination of Exempt Wholesale Generator Status.

Comment date: November 22, 2000, in accordance with Standard Paragraph E at the end of this notice. The Commission will limit its consideration of comments to those that concern the adequacy or accuracy of the application.

5. Duke Energy Washoe, L.L.C.

[Docket No. ER01-241-000]

Take notice that on October 26, 2000, Duke Energy Washoe, L.L.C. (Duke Washoe), tendered for filing pursuant to Section 205 of the Federal Power Act its proposed FERC Electric Tariff No. 1. Duke Washoe seeks authority to sell energy and capacity, as well as ancillary services, at market-based rates, together with certain waivers and preapprovals. Duke Washoe also seeks authority to sell, assign, or transfer transmission rights that it may acquire in the course of its marketing activities.

Duke Washoe seeks an effective date sixty (60) days from the date of filing for its proposed rate schedules.

Comment date: November 16, 2000, in accordance with Standard Paragraph E at the end of this notice.

6. Southwest Power Pool, Inc.

[Docket No. ER01-242-000]

Take notice that on October 27, 2000, Southwest Power Pool, Inc. (SPP), on behalf of its members, tendered for filing on behalf of its members, submits revised pages to the currently effective version of its tariff (SPP Tariff) intended to reflect a name change from Central & South West Corporation, Inc. (Public Service Company of Oklahoma and Southwestern Electric Power Company) or Central & South West Services to Public Service Company and Southwestern Electric Power Company, Subsidiaries of American Electric Power, Inc. (AEP West), as well as a decrease in the rates, the revenue requirement, and the loss factor for service associated with AEP West. In addition, SPP has submitted the revisions to its Tariff required by Order No. 614.

SPP seeks an effective date of November 1, 2000, for these changes.

Copies of this filing have been served on all affected state commissions, SPP customers, and SPP members.

Comment date: November 17, 2000, in accordance with Standard Paragraph E at the end of this notice.

7. Rayburn Country Electric Cooperative, Inc.

[Docket No. ER01-243-000]

Take notice that on October 27, 2000, Rayburn Country Electric Cooperative, Inc. (Rayburn Electric), tendered for filing proposed changes in its FERC Electric Service Tariff, Rate Schedule WP-2, Sheet No. 11, that would allow Rayburn Electric to retain margin adjustment refund amounts owed to its Members and use those amounts to offset future increases in the cost of purchased power to its Members.

Rayburn Electric proposes this change to mitigate the rate increase which will occur as a result of Rayburn Electric's obligations under a new purchased power agreement.

Copies of the filing were served upon Rayburn Electric's Members (as reflected on Attachment C of the filing).

Comment date: November 17, 2000, in accordance with Standard Paragraph E at the end of this notice.

8. PJM Interconnection, L.L.C.

[Docket No. ER01-244-000]

Take notice that on October 27, 2000, PJM Interconnection, L.L.C. (PJM), tendered for filing amendments to the PJM Open Access Transmission Tariff (PJM Tariff) to include in the PJM Tariff the Small Resource Interconnection Procedure Manual which contains expedited procedures pursuant to Section 36.12 of the PJM Tariff for the interconnection of generation resources less than 10 megawatts, and requested cancellation of pages to the PJM Tariff and the Amended and Restated Operating Agreement of PJM Interconnection, L.L.C., setting forth the Customer Load Reduction Pilot Program that terminated pursuant to PJM Interconnection, Inc., 92 FERC ¶ 61,059 (2000) on September 30, 2000.

PJM requests an effective date of December 27, for the amendments and the cancellation.

Copies of this filing were served upon all members of PJM and each state electric utility regulatory commission in the PJM control area.

Comment date: November 17, 2000, in accordance with Standard Paragraph E at the end of this notice.

9. Rockingham Power, L.L.C.

[Docket No. ER01-245-000]

Take notice that on October 27, 2000, Rockingham Power, L.L.C. (Rockingham), tendered for filing a proposed tariff for Emergency Redispatch Service. The tariff sets forth the compensation for the dispatch of the Rockingham generating facility by Duke Energy Corp., during emergencies.

Rockingham requests that the notice requirements set forth in Rule 35.3(a) be waived to the extent required to allow the tariff to become effective as of October 28, 2000.

Comment date: November 17, 2000, in accordance with Standard Paragraph E at the end of this notice.

10. Green Mountain Power Corporation

[Docket No. ER00-246-000]

Take notice that on October 27, 2000, Green Mountain Power Corporation (GMP), tendered a for filing a notice of cancellation and a service agreement for Burlington Electric Department to take service under its Firm Point-to-Point Transmission Service tariff.

Copies of this filing have been served on each of the affected parties, the Vermont Public Service Board and the Vermont Department of Public Service.

Comment date: November 17, 2000, in accordance with Standard Paragraph E at the end of this notice.

11. Virginia Electric and Power Company

[Docket No. ER01-247-000]

Take notice that on October 27, 2000, Virginia Electric and Power Company (Virginia Power or Company), tendered for filing proposed Attachment N to its Open Access Transmission Tariff that prescribes the procedures that Virginia Power will employ with respect to requests to interconnect new generators within the Virginia Power transmission system or to increase the capacity of generators that are already interconnected with the System.

Virginia Power requests that the Commission waive its notice requirements to allow the preceding to become effective on October 27, 2000.

Copies of the filing were served upon Virginia Power's jurisdictional customers and the Virginia State Corporation Commission.

Comment date: November 17, 2000, in accordance with Standard Paragraph E at the end of this notice.

12. Wisconsin Public Service Corporation

[Docket No. ER01-248-000]

Take notice that on October 27, 2000, the Wisconsin Public Service Corporation (WPSC), tendered for filing Supplement No. 14 to its partial requirements service agreement with Manitowoc Public Utilities (MPU). Supplement No. 14 provides MPU's contract demand nominations for January 2001—December 2005, under WPSC's W-2A partial requirements tariff and MPU's applicable service agreement.

The company states that copies of this filing have been served upon MPU and to the State Commissions where WPSC serves at retail.

Comment date: November 17, 2000, in accordance with Standard Paragraph E at the end of this notice.

13. Citizens Communications Company

[Docket No. ER01-249-000]

Take notice that on October 27, 2000, Citizens Communications Company, tendered for filing an Agreement to sell to Select Energy, Inc. a portion of its energy entitlement pursuant to the Firm Energy Contract between NEPOOL Phase II Participants and HydroQuebec, dated October 4, 1984.

A copy of this filing was served on Select Energy, Inc. In addition, a copy of the rate schedule is available for inspection at the offices of Citizens' Vermont Electric Division during regular business hours.

Comment date: November 17, 2000, in accordance with Standard Paragraph E at the end of this notice.

14. Calpine Power Services Company, Calpine Energy Services, L.P.

[Docket No. ER01-250-000]

Take notice that on October 27, 2000, Calpine Power Services Company (CPSC) and Calpine Energy Services, L.P. (CES), tendered for filing a request that the applicable rate schedule be amended to reflect the assignment of CPSC's membership in the WSPP to its affiliate, CES. Such assignment is allowed under Section 14 of the WSPP Agreement.

CPSC and CES state that a copy of this filing was served upon the General Counsel of the WSPP.

Comment date: November 17, 2000, in accordance with Standard Paragraph E at the end of this notice.

15. Engage Energy America Corp.

[Docket No. ER01-251-000]

Take notice that on October 27, 2000, Engage Energy America Corp. submitted a Notice of Succession pursuant to 18 CFR 35.16 and 131.51 of the Commission's regulations. Westcoast Gas Services Delaware (America) Inc. (WGSI Delaware) has changed its name to Engage Energy America Corp. and effective September 27, 2000, succeeded to WGSI Delaware's Rate Schedule FERC No. 1, Market-Based Rate Schedule filed in Docket No. ER00-3315-000, which was effective September 1, 2000.

Comment date: November 17, 2000, in accordance with Standard Paragraph E at the end of this notice.

16. Edison Sault Electric Company

[Docket No. ER01-252-000]

Take notice that on October 27, 2000, Edison Sault Electric Company (Edison Sault), tendered for filing a Certificate of Concurrence assenting to and concurring in a Joint Operating Agreement between Wisconsin Electric Power Company (Wisconsin Electric), and Edison Sault. The Joint Operating Agreement was filed by Wisconsin Electric on October 27, 2000. The purpose of the Joint Operating Agreement is to allow Wisconsin Electric and Edison Sault to coordinate their electricity supply activities, and to authorize Wisconsin Electric to serve as Edison Sault's agent with respect to the provision of certain electricity supply services.

Copies of this filing were served upon Cloverland Electric Cooperative, the Michigan Public Service Commission, and the Wisconsin Public Service Commission.

Comment date: November 17, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-28595 Filed 11-07-00; 8:45 am]

BILLING CODE 6717-01-P